DEPARTMENT OF THE INTERIOR

National Park Service

[NPS-WASO-NAGPRA-NPS0024408; PPWOCRADN0-PCU00RP14.R50000]

Notice of Inventory Completion: Peabody Museum of Natural History, Yale University, New Haven, CT

AGENCY: National Park Service, Interior.

ACTION: Notice.

SUMMARY: The Peabody Museum of Natural History, Yale University, has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Peabody Museum of Natural History. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Peabody Museum of Natural History at the address in this notice by March 1, 2018.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the completion of an inventory of human remains under the control of the Peabody Museum of Natural History, Yale University, New Haven, CT. The human remains were removed from a mound near Fort Totten, Benson County, ND.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Peabody Museum of Natural History professional staff in consultation with representatives of the Sisseton-Wahpeton Oyate of the Lake Traverse Reservation, South Dakota, and the Spirit Lake Tribe, North Dakota.

History and Description of the Remains

Sometime prior to 1887, human remains representing, at minimum, one individual were removed from a mound near Fort Totten, Benson County, ND, and were donated to the Peabody Museum in 1887. The human remains represent an adult, approximately 30-45 years old. No known individual was identified. No associated funerary objects are present.

Determinations Made by the Peabody Museum of Natural History

Officials of the Peabody Museum of Natural History have determined that:

• Pursuant to 25 U.S.C. 3001(9), the human remains described in this notice are Native American based on the preponderance of evidence, including collection history and osteological markers.

• Pursuant to 25 U.S.C. 3001(9), the human remains described in this notice represent the physical remains of one individual of Native American ancestry.

• Pursuant to 25 U.S.C. 3001(2), a relationship of shared group identity cannot be reasonably traced between the Native American human remains and any present-day Indian Tribe.

• Pursuant to 25 U.S.C. 3001 (15), the land from which the Native American human remains were removed is the tribal land of the Spirit Lake Tribe, North Dakota.

• Pursuant to 43 CFR 10.11(c)(1), the disposition of the human remains may be to the Spirit Lake Tribe, North Dakota.

Additional Requestors and Disposition

Representatives of any Indian Tribe or Native Hawaiian organization not identified in this notice that wish to request transfer of control of these human remains should submit a written request with information in support of the request to Professor David Skelly, Director, Yale Peabody Museum of Natural History, P.O. Box 208118, New Haven, CT 06520-8118, telephone (203) 432-3752, by March 1, 2018. After that date, if no additional requestors have come forward, transfer of control of the human remains to the Spirit Lake Tribe, North Dakota, may proceed.

The Peabody Museum of Natural History is responsible for notifying the Sisseton-Wahpeton Oyate of the Lake Traverse Reservation, South Dakota, and the Spirit Lake Tribe, North Dakota, that this notice has been published.

Dated: October 5, 2017.
Melanie O'Brien,
Manager, National NAGPRA Program.

Editor's Note: This document was received at the office of the Federal Register on January 25, 2018.

[FR Doc. 2018-01710 Filed 1-29-18; 8:45 am]

BILLING CODE 4312-52-P